POSTAL REGULATORY COMMISSION

Sunshine Act Meetings

TIME AND DATE: Wednesday, October 6, 2010 at 11 a.m.

PLACE: Commission hearing room, 901 New York Avenue, NW., Suite 200, Washington, DC 20268-0001.

STATUS: Most items on the agenda will be considered in a session open to public observation. Several items will be considered in a session closed to public observation. The open session will be audiocast.

MATTERS TO BE CONSIDERED:

PORTIONS OPEN TO THE PUBLIC:

1. Review of postal-related congressional activity.

2. Report on international activities.

3. Review of active cases.

4. Report on recent activites of the Joint Periodicals Task Force and status of the report to the Congress pursuant to secton 708 of the PAEA.

5. Report on the October 1 budgetary meeting at OMB.

6. Report on vacancies and positions recently filled.

PORTIONS CLOSED TO THE PUBLIC:

7. Discussion of pending litigation.

8. Discussion of confidential personnel issues.

9. Discussion of contracts involving confidential commercial information.

CONTACT PERSON FOR FURTHER INFORMATION: Stephen L. Sharfman, General Counsel, Postal Regulatory Commission, at 202-789-6820 or stephen.sharfman@prc.gov (for questions concerning the agenda) and Shoshana M. Grove at 202-789-6842 or shoshana.grove@prc.gov (for questions concerning audiocasting or matters related to public observation).

Dated: September 24, 2010.
Shoshana M. Grove,
Secretary.

[FR Doc. 2010-24396 Filed 9-24-10; 4:15 pm]

BILLING CODE 7710-FW-S